DEPARTMENT OF COMMERCE

Foreign-Trade Zones Board

[Docket 76-2011]

Foreign-Trade Zone 15—Kansas City, MO; Application for Manufacturing Authority; Blount, Inc. (Log Splitters); Kansas City, MO

An application has been submitted to the Foreign-Trade Zones Board (the Board) by the Greater Kansas City Foreign Trade Zone, Inc., grantee of FTZ 15, requesting manufacturing authority on behalf of Blount, Inc. (Blount), located in Kansas City, Missouri. The application was submitted pursuant to the provisions of the Foreign-Trade Zones Act, as amended (19 U.S.C. 81a-81u), and the regulations of the Board (15 CFR part 400). It was formally filed on November 29, 2011.

The Blount facility (170 employees, 100,000 unit capacity) is located within Site 3 of FTZ 15. The facility is used for the assembly, warehousing and distribution of forestry, farm and log products. FTZ manufacturing authority is being requested for the assembly of gasoline powered log splitters. Components and materials sourced from abroad (representing 30% of the value of the finished product) include: Beams, cylinders, pumps, tanks, tires, wedges, tongue attachments, beam weldments and non-threaded fasteners (duty rate ranges from 2.8 to 4.7%). The application also requests authority to include a broad range of inputs and finished forestry, farm and log products that Blount may produce under FTZ procedures in the future. New major activity involving these inputs/products would require review by the FTZ Board.

FTZ procedures could exempt Blount from customs duty payments on the foreign components used in export production. The company anticipates that some 10 percent of the plant's shipments will be exported. On its domestic sales, Blount would be able to choose the duty rates during customs entry procedures that apply to log splitters (duty rate 2.4%) for the foreign inputs noted above. FTZ designation would further allow Blount to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is February 6, 2012. Rebuttal comments in response to material submitted during the foregoing period may be submitted during the subsequent 15-day period to February 20, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz.

For further information, contact Elizabeth Whiteman at Elizabeth.Whiteman@trade.gov or (202) 482-0473.

Dated: November 29, 2011.
Andrew McGilvray,
Executive Secretary.

[FR Doc. 2011-31304 Filed 12-5-11; 8:45 am]

BILLING CODE 3510-DS-P